GENERAL SERVICES ADMINISTRATION

Interagency Committee for Medical Records (ICMR) Revision of SF 503, Medical Record—Autopsy Protocol

AGENCY: Office of Communications, GSA.

ACTION: Notice.

SUMMARY: The General Services Administration/ICMR revised the SF 503, Medical Record—Autopsy Protocol to:

1. Collect information on the sponsor of the patient;

2. Delete “grade; rank; rate;” from “PATIENT'S IDENTIFICATION” item and replace with “ID no. (SSN or other)”;

3. Add standard information fields; and

4. Make the form authorized for local reproduction.

You can obtain the updated form from GSA, Forms-XR, Attn.: Barbara Williams, (202) 501-0581.

DATES: Effective September 20, 2001.

FOR FURTHER INFORMATION CONTACT: Ms. Barbara Williams, General Services Administration, (202) 501-0581.

Dated: September 12, 2001.
Barbara M. Williams,
Deputy Standard and Optional Forms Management Officer, General Services Administration.

[FR Doc. 01-23357 Filed 9-19-01; 8:45 am]

BILLING CODE 6820-34-M